DEPARTMENT OF HEALTH AND HUMAN SERVICES

National Institutes of Health

National Institute on Minority Health and Health Disparities; Amended Notice of Meeting

Notice is hereby given of a change in the meeting of the National Advisory Council on Minority Health and Health Disparities, February 3-4, 2020, 1:30 p.m. to 2:00 p.m., National Institutes of Health, 6700B Rockledge Drive, Conference Room A, B, and C, Bethesda, MD 20892, which was published in the Federal Register on December 10, 2019, 84 FR 67468.

This meeting notice is amended to update the agenda description for February 4, 2020 to include the NIMHD Re-Organization. The meeting is partially closed to the public.

Dated: January 17, 2020.
Miguelina Perez,
Program Analyst, Office of Federal Advisory Committee Policy.

[FR Doc. 2020-01132 Filed 1-23-20; 8:45 am]

BILLING CODE 4140-01-P